DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held June 22, 2011 from 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC, 20036; telephone (202) 833-9339; fax (202) 833-9434; Web site http://www.rtca.org.

SUPPLEMENTARY INFORMATION: Pursuant to section 10(a)(2) of the Federal Advisory Committee Act (Pub. L. 92-463, 5 U.S.C., appendix (2)), notice is hereby given for a RTCA Program Management Committee meeting. The agenda will include:

• Opening Plenary (Welcome and Introductions).

• Review/Approve Summaries:

• March 17, 2011, RTCA Paper No. 085-11/PMC-889.

• May 26, 2011, RTCA Paper No. 102-11/PMC-895.

• Publication Consideration/Approval.

• Final Draft, New Document, Safety, Performance, and Interoperability Requirements Document for Airborne Spacing—Flight Deck Interval Management (ASPA-FIM), RTCA Paper No. 103-11/PMC-896, prepared by SC-186.

• Final Draft, Revised DO-230B, Integrated Security System Performance Standard for Airport Access Control, RTCA Paper No. 104-11/PMC-897, prepared by SC-224.

• Final Draft, Revised DO-315A, Minimum Aviation System Performance Standards (MASPS) for Enhanced Vision Systems, Synthetic Vision Systems, Combined Vision Systems and Enhanced Flight Vision Systems, prepared by SC-213.

• Integration and Coordination Committee (ICC)—Status Review.

• Action Item Review:

• SC-225—Small and Medium Sized Rechargeable Lithium Batteries and Battery Discussion—Terms of Reference.

• SC-223—Airport Surface Wireless Communications—Discussion .

• SC-222—Inmarsat AMS(R)S—Discussion—Review/Approve Revised Terms of Reference.

• Discussion:

• Aircraft Audio Systems and Equipment—Discussion—Possible New Special Committee to Revise DO-214.

• SC-214—Status, Terms of Reference.

• SC-213—Enhanced Flight Vision Systems/Synthetic Vision Systems (EFVS/SVS)—Revised Terms of Reference.

• SC-205—Status, Document Delivery Dates and Terms of Reference.

• SC-203—Unmanned Aircraft Systems—Discussion—MASPS and MOPS Schedules.

• SC-159—Global Positioning System—Discussion—.

• NAC/Trajectory Operations—Discussion—Status.

• FAA Actions Taken on Previously Published Documents.

• Special Committees—Chairmen's Reports and Meeting Management.

• Other Business.

• Schedule for Committee Deliverables and Next Meeting Date.

• Adjourn.

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, June 3, 2011.
Robert L. Bostiga,
RTCA Advisory Committee.

[FR Doc. 2011-14369 Filed 6-9-11; 8:45 am]

BILLING CODE 4910-13-P